DEPARTMENT OF COMMERCE

National Oceanic and Atmospheric Administration

RIN 0648-XC169

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application submitted by the Nature Conservancy contains all of the required information and warrants further consideration. The EFP would exempt participating vessels from minimum fish size and possession limits of Atlantic halibut.

Regulations under the Magnuson-Stevens Fishery Conservation and Management Act require publication of this notification to provide interested parties the opportunity to comment on EFP applications.

DATES: Comments must be received on or before October 3, 2012.

ADDRESSES: You may submit written comments by any of the following methods:

• Email: nero.efp@noaa.gov. Include in the subject line “Comments on Nature Conservancy EFP.”

• Mail: John K. Bullard, Regional Administrator, NMFS, NE Regional Office, 55 Great Republic Drive, Gloucester, MA 01930. Mark the outside of the envelope “Comments on Nature Conservancy EFP.”

• Fax: (978) 281-9135.

FOR FURTHER INFORMATION CONTACT: Brett Alger, Fisheries Management Specialist, 978-675-2153, Brett.Alger@noaa.gov.

SUPPLEMENTARY INFORMATION: The Nature Conservancy submitted a complete application for an EFP on August 6, 2012, to enable data collection activities that the regulations on commercial fishing would otherwise restrict. The EFP would exempt four federally permitted commercial fishing vessels from minimum halibut size and possession limits (41 inches and 1 halibut per trip) for the purpose of tagging and releasing Atlantic halibut during commercial fishing operations while operating under a project managed by the Nature Conservancy and the Cape Cod Commercial Hook Fishermen's Association. The co-managed project is attempting to reduce halibut assessment uncertainties such as catchability in fishery-independent surveys, stock structure, and regional growth rates.

Fishing operations would occur within the Gulf of Maine and Georges Bank Regulated Mesh Areas. Vessels would use approximately 900 hooks per set, make an average trip of 6 to 12 sets per day, with an average soak time of 3 to 4 hr per set. Each vessel would record halibut size, time and location of capture, whether it was retained or released, gear used, depth fished, bait type, and condition upon release. Fish would be tagged with a wire “spaghetti” tag, each marked with a unique number and recorded; all participants would complete a training program in the tagging and release of halibut.

Participating vessels would expect to encounter a mix of groundfish species, skates, dogfish, and other non-commercial fish species as they target primarily haddock and cod. Any undersized Atlantic halibut caught would be tagged and released. In addition, all other undersized and non-commercial fish would be handled per normal fishing operations and returned to sea as quickly as possible. There would be no landing of non-compliant fish on board the vessels. All catch of stocks allocated to Sectors by vessels on a Sector trip would be deducted from the Sector's Annual Catch Entitlement for each Northeast multispecies stock, including halibut. Because the current commercial catch rates of halibut are relatively low, tagging would be done opportunistically, and there is no target number of halibut to tag for the project. The participating vessels would be required to comply with all other applicable requirements and restrictions specified at 50 CFR part 648, unless specifically exempted in this EFP.

If approved, the applicant may request minor modifications and extensions to the EFP throughout the year. EFP modifications and extensions may be granted without further notice if they are deemed essential to facilitate completion of the proposed research and have minimal impact that do not change the scope or impact of the initially approved EFP request. Any fishing activity conducted outside the scope of the exempted fishing activity would be prohibited.

Authority: 16 U.S.C. 1801 et seq.

Dated: September 13, 2012.
Lindsay Fullenkamp,
Acting Deputy Director, Office of Sustainable Fisheries, National Marine Fisheries Service.

[FR Doc. 2012-23003 Filed 9-17-12; 8:45 am]

BILLING CODE 3510-22-P